DEPARTMENT OF HOMELAND SECURITY

Office of the Secretary

Privacy Act of 1974; Consolidation of Department of Homeland Security Office of Inspector General System of Records

AGENCY: Privacy Office, DHS.

ACTION: Notice to consolidate one Privacy Act system of records notice.

SUMMARY: In accordance with the Privacy Act of 1974 the Department of Homeland Security is giving notice that it proposes to consolidate the Privacy Act system of records notice titled, Department of Homeland Security Office of Inspector—001 General Audit Training Tracking System of Records into the existing Department of Homeland Security-wide system of records notice titled, Department of Homeland Security/ALL—003 General Training Records System of Records.

DATES: These changes will take effect on November 27, 2009.

FOR FURTHER INFORMATION CONTACT: For general questions and privacy issues please contact: Mary Ellen Callahan (703-235-0790), Chief Privacy Officer, Privacy Office, U.S. Department of Homeland Security, Washington, DC 20528.

SUPPLEMENTARY INFORMATION: Pursuant to the provisions of the Privacy Act of 1974, 5 U.S.C. 552a, and as part of its ongoing integration and management efforts, the Department of Homeland Security (DHS) is consolidating the system of records notice titled, DHS/Office of Inspector General (OIG)—001 Audit Training Tracking System of Records (70 FR 20154, April 18, 2005).

DHS will continue to collect and maintain records regarding audit training and will rely upon the existing DHS-wide system of records notice titled, DHS/ALL—003 General Training Records System of Records (73 FR 71656, November 25, 2008).

Eliminating this notice will have no adverse impacts on individuals, but will promote the overall streamlining and management of DHS Privacy Act record systems.

Dated: October 20, 2009.
Mary Ellen Callahan,
Chief Privacy Officer, Department of Homeland Security.

[FR Doc. E9-25929 Filed 10-27-09; 8:45 am]

BILLING CODE 9110-9B-P